COMMODITY FUTURES TRADING COMMISSION

Sunshine Act Meeting Notice

Agency Holding Meeting: Commodity Futures Trading Commission.

Time and Date: 11 a.m., Friday, November 28, 2003.

Place: 1155 21st St., NW., Washington, DC, Room 1012.

Status: Closed.

Matters to be Considered: Surveillance Meeting.

FOR FURTHER INFORMATION CONTACT: Jean A. Webb, (202) 418-5100.

Jean A. Webb,
Secretary of the Commission.

[FR Doc. 03-26782 Filed 10-20-03; 8:45 am]

BILLING CODE 6531-01-M